DEPARTMENT OF COMMERCE

International Trade Administration

[A-580-807]

Polyethylene Terephthalate Film, Sheet and Strip From the Republic of Korea, Final Results of Changed Circumstances Antidumping Duty Administrative Review

AGENCY: Import Administration, International Trade Administration, Department of Commerce.

ACTION: Notice of final results of changed circumstances antidumping duty administrative review.

SUMMARY: On March 7, 2000, the Department of Commerce (the Department) published the notice of initiation and preliminary results of its changed circumstances administrative review concerning whether Toray Saehan, Inc. (TSI) is the successor firm to Saehan Industries, Inc. (Saehan) and whether the revocation issued for Cheil Synthetics, Inc. (Cheil), and applied to Saehan, applies to TSI. We have now completed that review. We have determined that TSI is the successor-in-interest to Saehan, and that the revocation issued for Cheil, and applied to Saehan, also applies to TSI.

EFFECTIVE DATE: May 31, 2000.

FOR FURTHER INFORMATION CONTACT: Michael J. Heaney at (202) 482-4475 or Robert James at (202) 482-0649, AD/CVD Enforcement Office Eight, Import Administration, International Trade Administration, U.S. Department of Commerce, 14th Street and Constitution Avenue, N.W., Washington, DC 20230.

The Applicable Statute and Regulations

Unless otherwise indicated, all citations to the statute are references to the provisions effective January 1, 1995, the effective date of the amendments made to the Tariff Act by the Uruguay Round Agreements Act. In addition, unless otherwise indicated, all citations to the Department's regulations are to the regulations codified at 19 CFR 351 (1999).

SUPPLEMENTARY INFORMATION:

Background

On July 5, 1996, the Department issued a partial revocation with respect to Cheil after finding zero or de minimis margins in three consecutive administrative reviews. (See Polyethtylene Terephthalate Film, Sheet, and Strip from the Republic of Korea; Final Results of Antidumping Duty Administrative Reviews and Notice of Revocation in Part, (61 FR 35177, July 5, 1996).) On January 26, 1998, the Department determined that Saehan was the successor-in-interest to Cheil, and that the partial revocation issued for Cheil applied to Saehan. (See Polyethtylene Terephthalate Film, Sheet, and Strip from the Republic of Korea; Final Results of Changed Circumstances Antidumping Duty Administrative Review, (63 FR 3703, January 26, 1998).) On March 7, 2000, the Department published the preliminary results of this case. (See Polyethtylene Terephthalate Film, Sheet, and Strip from the Republic of Korea; Initiation and Preliminary Results of Changed Circumstances Antidumping Duty Administrative Review (65 FR 11982, March 7, 2000).) The Department preliminarily determined that TSI is the successor company to Saehan, and that the partial revocation issued to Cheil, and applied to Saehan, also applies to TSI. We received no comments on those preliminary results. The Department has conducted this administrative review in accordance with Section 751(b) of the Act.

Scope of the Review

The merchandise subject to this antidumping duty order are shipments of all gauges of raw, pretreated, or primed polyethylene terephthalate, film, sheet, and strip, whether extruded or coextruded. The films excluded from this review are metallized films, and other finished films that have had at least one of their surfaces modified by the application of a performance-enhancing resinous or inorganic layer of more than 0.00001 inches (0.254 micrometers) thick. Roller transport cleaning film which has at least one of its surfaces modified by the application of SBR latex has also been ruled as not within the scope of the order.

PET film is currently classifiable under Harmonized Tariff Schedule of the United States subheading 3920.62.00.00. The HTS subheading is provided for convenience and customs purposes. The written description of the scope of this order is dispositive.

This changed circumstances administrative review covers TSI.

Final Results of Changed Circumstances Review

We determine that the July 5, 1996 partial revocation issued with respect to Cheil, and applied to Saehan as Cheil's successor company, also applies to TSI. We will notify the U.S. Customs Service of our decision and instruct Customs to liquidate without regard to antidumping duties, merchandise produced by TSI on or after October 15, 1999, the date on which TSI was established.

This changed circumstances review and notice are in accordance with section 751(b) of the Act, as amended (19 U.S.C. 1675(b)), and 19 CFR 351.216.

Dated: May 17, 2000.
Troy H. Cribb,
Acting Assistant Secretary for Import Administration.

[FR Doc. 00-13582 Filed 5-30-00; 8:45 am]

BILLING CODE 3510-DS-P